DEPARTMENT OF COMMERCE

International Trade Administration

[A-570-108]

Ceramic Tile From the People's Republic of China: Antidumping Duty Order

AGENCY: Enforcement and Compliance, International Trade Administration, U.S. Department of Commerce.

SUMMARY: Based on affirmative final determinations by the Department of Commerce (Commerce) and the International Trade Commission (ITC), Commerce is issuing an antidumping duty order on ceramic tile from the People's Republic of China (China).

DATES: Applicable June 1, 2020.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

In accordance with sections 735(d) and 777(i)(1) of the Tariff Act of 1930, as amended (the Act), and 19 CFR 351.210(c), on April 7, 2020, Commerce published its affirmative final determination in the less-than-fair-value (LTFV) investigation of ceramic tile from China.¹ In addition, Commerce made an affirmative determination of critical circumstances, in part, pursuant to section 735(a)(3) of the Act, and 19 CFR 351.206.² On May 21, 2020, the ITC notified Commerce of its final determination that an industry in the United States is materially injured within the meaning of section 735(b)(1)(A)(i) of the Act, by reason of the LTFV imports of ceramic tile from China.³ Further, the ITC determined that critical circumstances do not exist with respect to imports of ceramic tile from China.

¹ See Ceramic Tile from the People's Republic of China: Final Affirmative Determination of Sales at Less Than Fair Value, and Final Partial Affirmative Critical Circumstances Determination, 85 FR 19425 (April 7, 2020) (Final Determination).

² Id.

³ See Letter to Jeffrey Kessler, Assistant Secretary of Commerce for Enforcement and Compliance, from David S. Johanson, Chairman of the U.S. International Trade Commission, dated May 21, 2020.

Scope of the Order

The products covered by this order are ceramic tile from China. For a complete description of the scope of this order, see the appendix to this notice.

Antidumping Duty Order

On May 21, 2020, in accordance with section 735(d) of the Act, the ITC notified Commerce of its final determination in this investigation, in which it found that an industry in the United States is materially injured by reason of the LTFV imports of ceramic tile from China.⁴ Therefore, in accordance with section 735(c)(2) of the Act, Commerce is issuing this antidumping duty order. Because the ITC determined that imports of ceramic tile from China are materially injuring a U.S. industry, unliquidated entries of such merchandise from China entered, or withdrawn from warehouse, for consumption are subject to the assessment of antidumping duties.

⁴ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of ceramic tile from China. Antidumping duties will be adjusted for export subsidies found in the final determination of the companion countervailing duty investigation.⁵ Antidumping duties will be assessed on unliquidated entries of ceramic tile from China entered, or withdrawn from warehouse, for consumption on or after November 14, 2019, the date of publication of the Preliminary Determination,⁶ but will not include entries occurring after the expiration of the provisional measures period and before publication in the Federal Register of the ITC's final injury determination under section 735(b) of the Act, as further described below.

⁵ See Final Determination, 85 FR at 19433.

⁶ See Ceramic Tile from the People's Republic of China: Preliminary Affirmative Determination of Sales at Less Than Fair Value, Preliminary Negative Critical Circumstances Determination, and Postponement of Final Determination, 84 FR 61877 (November 14, 2019) (Preliminary Determination), and accompanying Preliminary Decision Memorandum (PDM); see also Ceramic Tile from the People's Republic of China: Notice of Correction to the Preliminary Affirmative Determination of Sales at Less Than Fair Value, 84 FR 68114 (December 13, 2019).

Suspension of Liquidation

In accordance with section 735(c)(1)(B) of the Act, we will instruct CBP to reinstitute the suspension of liquidation of ceramic tile from China as described in the appendix to this notice, effective on the date of publication of the ITC's final determination in the Federal Register, and to assess, upon further instruction by Commerce, pursuant to section 736(a)(1) of the Act, antidumping duties for each entry of the subject merchandise equal to the amount by which the normal value of the merchandise exceeds the export price or constructed export price of the merchandise, adjusted by the amount of export subsidies, where appropriate. We will also instruct CBP to require, at the same time as importers would normally deposit estimated duties on this merchandise, a cash deposit for each entry of subject merchandise equal to the rates noted below. These instructions suspending liquidation will remain in effect until further notice. The China-wide entity rate applies to all producers or exporters not specifically listed below.

BILLING CODE 3510-DS-P

BILLING CODE 3510-DS-C

Provisional Measures

Section 733(d) of the Act states that instructions issued pursuant to an affirmative preliminary determination may not remain in effect for more than four months, except where exporters representing a significant proportion of exports of the subject merchandise request Commerce to extend that four-month period to no more than six months. At the request of exporters that account for a significant proportion of ceramic tile from China, Commerce extended the four-month period to six-months.⁸ Commerce published the Preliminary Determination on November 14, 2019. Accordingly, the six-month period, beginning on the date of publication of the Preliminary Determination, ended on May 11, 2020. Pursuant to section 737(b) of the Act, the collection of cash deposits at the rates listed above will begin on the date of publication of the ITC's final injury determination in the Federal Register.

⁷ Including: Belite Ceramics (Anyang) Co., Ltd., Beilitai (Tianjin) Tile Co., Ltd., Tianjin Honghui Creative Technology Co., Ltd., Foshan Sanfi Import & Export Co., Ltd., Foshan Sanfi Import & Export Co., Ltd., Foshan Foson Tiles Co., Ltd., and Foshan Ibel Import and Export Ltd.

⁸ See Preliminary Determination, 85 FR at 61886-87.

Therefore, in accordance with section 733(d) of the Act, Commerce instructed CBP to terminate the suspension of liquidation and to liquidate, without regard to antidumping duties, unliquidated entries of ceramic tile from China entered, or withdrawn from warehouse, for consumption, after May 11, 2020, the date on which the provisional measures expired, until and through the day preceding the date of publication of the ITC's final injury determination in the Federal Register. Suspension of liquidation will resume on the date of publication of the ITC's final determination in the Federal Register.

Critical Circumstances

With regard to the ITC's negative critical circumstances determination on imports of ceramic tile from China discussed above, we will instruct CBP to lift suspension and to refund any cash deposits made to secure the payment of estimated antidumping duties with respect to entries of ceramic tile from China entered, or withdrawn from warehouse, for consumption on or after August 16, 2019 (i.e., 90 days prior to the date of publication of the Preliminary Determination), but before November 14, 2019 (i.e., the date of publication of the Preliminary Determination).

Notifications to Interested Parties

This notice constitutes the antidumping duty order with respect to ceramic tile from China pursuant to section 736(a) of the Act. Interested parties can find a list of antidumping duty orders currently in effect at http://enforcement.trade.gov/stats/iastats1.html.

This order is published in accordance with section and 736(a) of the Act and 19 CFR 351.211(b).

Dated: May 26, 2020.
Jeffrey I. Kessler,
Assistant Secretary for Enforcement and Compliance.

APPENDIX

Scope of the Order

The merchandise covered by the order is ceramic flooring tile, wall tile, paving tile, hearth tile, porcelain tile, mosaic tile, flags, finishing tile, and the like (hereinafter ceramic tile). Ceramic tiles are articles containing a mixture of minerals including clay (generally hydrous silicates of alumina or magnesium) that are fired so the raw materials are fused to produce a finished good that is less than 3.2 cm in actual thickness. All ceramic tile is subject to the scope regardless of end use, surface area, and weight, regardless of whether the tile is glazed or unglazed, regardless of the water absorption coefficient by weight, regardless of the extent of vitrification, and regardless of whether or not the tile is on a backing. Subject merchandise includes ceramic tile with decorative features that may in spots exceed 3.2 cm in thickness and includes ceramic tile “slabs” or “panels” (tiles that are larger than 1 meter² (11 ft.²)).

Subject merchandise includes ceramic tile that undergoes minor processing in a third country prior to importation into the United States. Similarly, subject merchandise includes ceramic tile produced that undergoes minor processing after importation into the United States. Such minor processing includes, but is not limited to, one or more of the following: Beveling, cutting, trimming, staining, painting, polishing, finishing, additional firing, or any other processing that would otherwise not remove the merchandise from the scope of the order if performed in the country of manufacture of the in-scope product.

Subject merchandise is currently classified in the Harmonized Tariff Schedule of the United States (HTSUS) under the following subheadings of heading 6907: 6907.21.1005, 6907.21.1011, 6907.21.1051, 6907.21.2000, 6907.21.3000, 6907.21.4000, 6907.21.9011, 6907.21.9051, 6907.22.1005, 6907.22.1011, 6907.22.1051, 6907.22.2000, 6907.22.3000, 6907.22.4000, 6907.22.9011, 6907.22.9051, 6907.23.1005, 6907.23.1011, 6907.23.1051, 6907.23.2000, 6907.23.3000, 6907.23.4000, 6907.23.9011, 6907.23.9051, 6907.30.1005, 6907.30.1011, 6907.30.1051, 6907.30.2000, 6907.30.3000, 6907.30.4000, 6907.30.9011, 6907.30.9051, 6907.40.1005, 6907.40.1011, 6907.40.1051, 6907.40.2000, 6907.40.3000, 6907.40.4000, 6907.40.9011, and 6907.40.9051. Subject merchandise may also enter under subheadings of headings 6914 and 6905: 6914.10.8000, 6914.90.8000, 6905.10.0000, and 6905.90.0050. The HTSUS subheadings are provided for convenience and customs purposes only. The written description of the scope of the order is dispositive.

[FR Doc. 2020-11721 Filed 5-28-20; 8:45 am]

BILLING CODE 3510-DS-P